DEPARTMENT OF ENERGY

Blue Ribbon Commission on America's Nuclear Future, Transportation and Storage Subcommittee

AGENCY: Department of Energy, Office of Nuclear Energy.

ACTION: Notice of open meeting.

SUMMARY: This notice announces an open meeting of the Transportation and Storage (T&S) Subcommittee. The T&S Subcommittee is a subcommittee of the Blue Ribbon Commission on America's Nuclear Future (the Commission). The establishment of subcommittees is authorized in the Commission's charter. The Commission was organized pursuant to the Federal Advisory Committee Act (Pub. L. 92-463, 86 Stat. 770) (the Act). This notice is provided in accordance with the Act.

DATES: Thursday, August 19, 2010, 8:30 a.m.-5 p.m.

ADDRESSES: Washington Marriott Hotel, 1221 22nd Street, NW., Washington, DC.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Co-chairs of the Commission requested the formation of the T&S Subcommittee to answer the question: “[S]hould the U.S. change the way in which it is storing used nuclear fuel and high level waste while one or more final disposal locations are established?”

Purpose of the Meeting: The session will provide the T&S Subcommittee with a range of input from public health and safety officials, industry representatives, public policy experts, and nongovernmental organizations. The presenters will focus on technical, regulatory, safety, and risk perception issues related to onsite storage of spent nuclear fuel at operating and shutdown commercial nuclear facilities. Discussion will include issues related to ongoing and planned transport of such materials for eventual treatment and/or disposal.

Tentative Agenda: The public meeting will begin at approximately 8:30 a.m. at the Washington Marriott Hotel, 1221 22nd Street, NW., Washington, DC. The Subcommittee will hear presentations from a series of panelists, ask questions of presenters, and conclude with a public comment session. The public session is expected to conclude by 5 p.m.

Public Participation: Subcommittee meetings are not required to be open to the public; however, the Commission has elected to open the presentation sessions of the meeting to the public. Individuals and representatives of organizations who would like to offer comments and suggestions may do so at the end of the public session on Thursday, August 19, 2010. Approximately 45 minutes will be reserved for public comments from 4:15 p.m. to 5 p.m. Time allotted per speaker will depend on the number who wish to speak but will not exceed 5 minutes. The Designated Federal Officer is empowered to conduct the meeting in a fashion that will facilitate the orderly conduct of business. Those wishing to speak should register to do so beginning at 8 a.m. on August 19, 2010, at the Washington Marriott Hotel.

Those not able to attend the meeting or have insufficient time to address the subcommittee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live video Webcast. The link will be available at http://www.brc.gov.

Minutes: The minutes of the meeting will be available at http://www.brc.gov or by contacting Mr. Frazier. He may be reached at the postal address or e-mail address above.

Issued in Washington, DC, on July 28, 2010.
Carol A. Matthews,
Committee Management Officer.

[FR Doc. 2010-19003 Filed 8-2-10; 8:45 am]

BILLING CODE 6450-01-P